DEPARTMENT OF ENERGY

Federal Energy Regulatory Commission

[Docket Nos. RM01-10-006, EL01-118-005, and RM03-10-002]

Standards of Conduct for Transmission Providers; Investigation of Terms and Conditions of Public Utility Market-Based Rate Authorizations; Amendments to Blanket Sales Certificate; Notice of Technical Conference and Workshop

April 5, 2005.

The Federal Energy Regulatory Commission (Commission) will hold a technical conference and workshop on Standards of Conduct for Transmission Providers and Market Behavior Rules on May 6, 2005, at the Millennium Knickerbocker Hotel in Chicago, Illinois. The meeting will begin at 10 a.m. (CST) and conclude late afternoon. All interested persons are invited to attend.

The purpose of the conference and workshop is to discuss: (1) Critical steps and best practices for complying with the Standards of Conduct for Transmission Providers under Order No. 2004 ¹; and (2) the impact of the market behavior rules ² on wholesale energy markets and steps that must be taken by entities subject to the market behavior rules to ensure compliance. The conference and workshop will address, but not be limited to, the following general topics:

¹ Standards of Conduct for Transmission Providers, Order No. 2004, FERC Stats. & Regs., Regulations Preambles ¶ 31,155 (2003), order on reh'g, Order No. 2004-A, III FERC Stats. & Regs. ¶ 31,161 (2004), 107 FERC ¶ 61,032 (2004), order on reh'g, Order No. 2004-B, III FERC Stats. & Regs. ¶ 31,166 (2004), 108 FERC ¶ 61,118 (2004), order on reh'g, Order No. 2004-C, 109 FERC ¶ 61,325 (2004), order on reh'g, Order No. 2004-D, 110 FERC ¶ 61,320 (2005).

² Order Amending Market-Based Rate Tariffs and Authorizations, 105 FERC ¶ 61,218 (2003), reh'g denied, 107 FERC ¶ 61,175 (2004); Order No. 644, Amendment to Blanket Sales Certificates, FERC Stats. & Regs. ¶ 31,153 (2003), reh'g denied, 107 FERC ¶ 61,174 (2004).

• The duties and responsibilities of a Chief Compliance Officer.

• Techniques for ensuring separation of transmission function employees from energy and marketing affiliate employees required by the Standards of Conduct.

• Best practices for complying with the information sharing prohibitions of the Standards of Conduct.

• Impact of the market behavior rules on energy markets.

• Best practices for implementing and ensuring compliance with the market behavior rules.

The Commission is hosting this conference and workshop to help provide guidance on complying with the Standards of Conduct that have been in effect since September 2004 and the market behavior rules that have been in effect since December 2003. Interested persons are invited to submit specific questions that they would like to be addressed at the conference and workshop or other suggestions for the content of the program. Prospective attendees and participants are urged to watch for further notices; a detailed agenda will be issued in advance of the conference and workshop.

Hotel rooms at the Millennium Knickerbocker Hotel, 163 East Walton Place, Chicago, Illinois, can be reserved by calling 1 (800) 621-8140 or 1 (312) 751-8100.

There is no registration fee to attend this conference. However, we request that those planning to attend the conference register online on the Commission's Web site at http://www.ferc.gov/whats-new/registration/comp-05-06-form.asp

Prospective participants and interested parties are encouraged to submit questions, suggestions and requests to participate by Wednesday, April 13, 2005. Questions about the conference and workshop, including requests to participate, should be directed as follows:

Regarding Standards of Conduct: Demetra Anas, Office of Market Oversight and Investigations, Federal Energy Regulatory Commission, 888 First Street, NE., Washington, DC 20426, 202-502-8178, Demetra.Anas@ferc.gov.

Regarding market behavior rules: Ted Gerarden, Office of Market Oversight and Investigations, Federal Energy Regulatory Commission, 888 First Street, NE., Washington, DC 20426, (202) 502-6187, Ted.Gerarden@ferc.gov.

Magalie R. Salas,
Secretary.

[FR Doc. E5-1719 Filed 4-12-05; 8:45 am]

BILLING CODE 6717-01-P